DEPARTMENT OF HEALTH AND HUMAN SERVICES

Centers for Disease Control and Prevention

[60Day-15-0604; Docket No. CDC-2015-0067]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled School-Associated Violent Deaths Surveillance System (SAVDSS). CDC will use the information to continue the ongoing surveillance of school-associated violent deaths (SAVD), to track and monitor the extent of school-associated violence.

DATES: Written comments must be received on or before October 23, 2015.

ADDRESSES: You may submit comments, identified by Docket No. CDC-2015-0067 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

The School-Associated Violent Death Surveillance System (SAVD)—Revision (OMB# 0920-0604, expiration 04/30/2016)—National Center for Injury Prevention and Control (NCIPC), Centers for Disease Control and Prevention (CDC).

Background and Brief Description

School-associated violence, particularly homicides and suicides that occur in schools, has been a significant public concern for several years. Despite the important role of schools as a setting for violence research and prevention interventions, relatively little scientific or systematic work has been conducted to describe the nature and level of fatal violence associated with schools. Public health and education officials have had to rely on limited local studies and estimated numbers to describe the extent of school-associated violent death. As a result, the U.S. Department of Education (DOE) requested assistance from the Division of Violence Prevention (DVP)/NCIPC in establishing an ongoing SAVD in the United States with the goal of tracking and monitoring the extent of this problem on an ongoing basis. The SAVD surveillance system remains the only systematic effort to document school-associated violent deaths on a national basis. Data from the SAVD surveillance system are intended to contribute to the understanding of fatal violence associated with schools, guide further research in the area, and help direct ongoing and future prevention programs.

The data collection methodology involves investigators reviewing public records and published press reports concerning each SAVD. For each identified case, investigators will interview an investigating law enforcement official and a school official who are knowledgeable about the case in question. Researchers will request information on both the victim and alleged offender(s)—including demographic data, their academic and criminal records, and their relationship to one another. They will also collect data on the time and location of the death; the circumstances, motive, and method of the fatal injury; and the security and violence prevention activities in the school and community where the death occurred, before and after the fatal injury event. Additionally, CDC will obtain law enforcement reports on each case.

The study population will include the victims and offenders from all identified events in which there was a school-associated violent death in the U.S.

The surveillance system will continue to contribute to the understanding of fatal violence associated with schools, guide further research in the area, and help direct ongoing and future prevention programs. Data collected through the surveillance system will be reviewed and used by CDC, the DOE, the US Department of Justice, and other outside agencies and organizations.

OMB approval is requested for three years for a revision of the currently approved information collection. The only cost to respondents will be time spent on the telephone responding to the survey.

Estimated Annualized Burden Hours
Type of respondent | Form name | Number of respondents | Number of responses per respondent | Average burden per response (in hrs.) | Total burden hours (in hrs.)
Law Enforcement Officer | Law Enforcement Interview Tool | 35 | 1 | 65/60 | 38
School Official | School Official Interview Tool | 35 | 1 | 65/60 | 38
Total |  |  |  |  | 76

Leroy A. Richardson,
Chief, Information Collection Review Office, Office of Scientific Integrity, Office of the Associate Director for Science, Office of the Director,Centers for Disease Control and Prevention.

[FR Doc. 2015-20813 Filed 8-21-15; 8:45 am]

BILLING CODE 4163-18-P